DEPARTMENT OF JUSTICE

Antitrust Division

Notice Pursuant to the National Cooperative Research and Production Act of 1993—Cool Roof Rating Council

Notice is hereby given that, on December 28, 2004, pursuant to section 6(a) of the National Cooperative Research and Production Act of 1993, 15 U.S.C. 4301 et seq. (“the Act”), Cool Roof Rating Council (“CRRC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Cool Roof Rating Council, Oakland, CA. The nature and scope of CRRC's standards development activities are: to develop and maintain a roofing produce solar reflectance and thermal emittance (radiative properties) Ratings Program (the standard), which provides for fair, accurate and credible procedures for evaluating and labeling the solar reflectance and thermal emittance (radiative properties) of roofing products, under a strict program administered by the CRRC and to disseminate the information to all interested parties. Program information is available to http://www/coolroofs.org.

Dorothy B. Fountain,
Deputy Director of Operations, Antitrust Division.

[FR Doc. 05-1985 Filed 2-1-05; 8:45 am]

BILLING CODE 4410-11-M